FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
018206N | FYT, Inc. dba Fan Yang Transportation 17588 E. Rowland Street #A-216 City of Industry, CA 91748 | February 17, 2005.
017436N | Scorpion Express Line Corp. 4995 NW 72nd Avenue Suite 209 Miami, FL 33166 | March 5, 2005.

Sandra L. Kusumoto,
Director, Bureau of Certification and Licensing.

[FR Doc. 05-7957 Filed 4-20-05; 8:45 am]

BILLING CODE 6730-01-P